DEPARTMENT OF COMMERCE

International Trade Administration

Initiation of Antidumping and Countervailing Duty Administrative Reviews and Request for Revocation in Part

AGENCY: Import Administration, International Trade Administration, Department of Commerce.

SUMMARY: The Department of Commerce (the Department) has received requests to conduct administrative reviews of various antidumping and countervailing duty orders and findings with November anniversary dates. In accordance with the Department's regulations, we are initiating those administrative reviews. The Department received a request to revoke one antidumping duty order in part.

DATES: Effective Date: December 24, 2008.

FOR FURTHER INFORMATION CONTACT: Sheila E. Forbes, Office of AD/CVD Operations, Customs Unit, Import Administration, International Trade Administration, U.S. Department of Commerce, 14th Street and Constitution Avenue, NW., Washington, DC20230, telephone: (202) 482-4697.

SUPPLEMENTARY INFORMATION:

Background

The Department has received timely requests, in accordance with 19 CFR 351.213(b) (2007), for administrative reviews of various antidumping and countervailing duty orders and findings with November anniversary dates. The Department also received a timely request to revoke in part the antidumping duty order on Fresh Garlic from the People's Republic of China with respect to one exporter.

Notice of No Sales

Under 19 CFR 351.213(d)(3), the Department may rescind a review where there are no exports, sales, or entries of subject merchandise during the respective period of review listed below. If a producer or exporter named in this notice of initiation had no exports, sales, or entries during the period of review, it should notify the Department within 30 days of publication of this notice in the Federal Register. The Department will consider rescinding the review only if the producer or exporter, as appropriate, submits a properly filed and timely statement certifying that it had no exports, sales, or entries of subject merchandise during the period of review. All submissions must be made in accordance with 19 CFR 351.303 and are subject to verification in accordance with section 782(i) of the Tariff Act of 1930, as amended (the Act). Six copies of the submission should be submitted to the Assistant Secretary for Import Administration, International Trade Administration, Room 1870, U.S. Department of Commerce, 14th Street & Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (CBP) data for U.S. imports during the period of review (POR). We intend to release the CBP data under Administrative Protective Order (APO) to all parties having an APO within five days of publication of this initiation notice and to make our decision regarding respondent selection within 20 days of publication of this Federal Register notice. The Department invites comments regarding the CBP data and respondent selection within 10 calendar days of publication of this Federal Register notice.

Separate Rates

In proceedings involving non-market economy (NME) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991) (Sparklers), as amplified by Final Determination of Sales at Less Than Fair Value: Silicon Carbide from the People's Republic of China, 59 FR 22585 (May 2,1994) (Silicon Carbide). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://ia.ita.doc.gov/nme.nme-sep-rate.html on the date of publication of this Federal Register notice. In responding to the certification, please follow the “Instructions for Filing the Certification” in the Separate Rate Certification. Separate Rate Certifications are due to the Department no later than 30 calendar days after publication of this Federal Register notice. The deadline and requirement for submitting a Certification applies equally to NME-owned firms, wholly foreign-owned firms, and foreign sellers who purchase and export subject merchandise to the United States.

For entities that have not previously been assigned a separate rate, to demonstrate eligibility for such, the Department requires a Separate Rate Status Application. The Separate Rate Status Application will be available on the Department's Web site at http://ia.ita.doc.gov/nme.nme-sep-rate.html on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

Initiation of Reviews

In accordance with section 19 CFR 351.221(c)(1)(i), we are initiating administrative reviews of the following antidumping and countervailing duty orders and findings. We intend to issue the final results of these reviews not later than November 30, 2009.

Antidumping duty proceedings | Period to be reviewed
MEXICO: Circular Welded Non-Alloy Steel Pipe and Tube A-201-805 | 11/1/07—10/31/08.
Hylsa, S.A. de C.V
Mueller Comercial de Mexico, S. de R.L. de C.V
Niples del Norte, S.A. de C.V
Productos Laminados de Aceros, S.A. de C.V
Tuberias Procasa S.A. de C.V
PYTCO, S.A. de C.V
Tuberia Nacional, S.A. de C.V
Ternium Mexico, S.A. de C.V
REPUBLIC OF KOREA: Circular Welded Non-Alloy Steel Pipe A-580-809 | 11/1/07—10/31/08.
SeAH Steel Corporation
Hyundai HYSCO
Husteel Co., Ltd
Daewoo International Corporation
Miju Steel Making Co
Samsun Steel Co., Ltd
Kukje Steel Co., Ltd
Nexteel Co., Ltd
MSteel Co., Ltd
Kumkang Industrial Co., Ltd
Histeel Co., Ltd
Hyundai Corporation
Dongbu Steel Co., Ltd
Dong-A Steel Co., Ltd
Korea Iron & Steel Co., Ltd
Union Pipe Manufacturing Co., Ltd
Union Steel Co., Ltd
Tianjin Huanbohai Import & Export Co
Huludao Steel Pipe Industrial Co., Ltd
Huludao City Steel Pipe
Benxi Northern Steel Pipes Co
Tianjin Shuangjie Steel Pipe Co
A-JU Besteel Co., Ltd
THAILAND: Certain Hot-Rolled Carbon Steel Flat Products A-549-817 | 11/1/07—10/31/08.
G J Steel Public Company Limited (formerly Nakornthai Strip Mill Public Company Limited)
G Steel Public Company Limited
THE PEOPLE'S REPUBLIC OF CHINA: Certain Hot-Rolled Carbon Steel Flat Products ¹ A-570-865 | 11/1/07—10/31/08.
Shanghai Baosteel International Economic & Trading Co., Ltd
Baoshan Iron and Steel Co., Ltd
Baosteel Group Corporation
Shanghai Baosteel Group Corporation
Baosteel Group International Trade Corp
Angang Steel Company, Ltd
Angang Group International Trade Corporation
New Iron and Steel Co., Ltd
Angang Group Hong Kong Co., Ltd
Anshan Iron & Steel Group (and all affiliated entities)
THE PEOPLE'S REPUBLIC OF CHINA: Certain Cut-to-Length Carbon Steel Plate ² A-570-849 | 11/1/07—10/31/08.
Anshan Iron & Steel Group (AISCO/Anshan International/Sincerely Asia Ltd.)
Baoshan (Bao/Baoshan International Trade Corp./Bao Steel Metals Trading Corp., Shanghai Baosteel Group Corporation and Baoshan Iron and Steel Co., Ltd., Shanghai Pudong Steel & Iron Co.)
Baosteel Group
Hunan Valin Xiangtan Iron & Steel Co., Ltd
THE PEOPLE'S REPUBLIC OF CHINA: Fresh Garlic ³ A-570-831 | 11/1/07—10/31/08.
American Pioneer Shipping
Anhui Dongqian Foods Ltd
Anqiu Friend Food Co., Ltd
Anqiu Haoshun Trade Co., Ltd
APS Qingdao
Chengwu County Yuanxiang Industry & Commerce Co., Ltd
Chiping Shengkang Foodstuff Co., Ltd
Hangzhou Guanyu Foods Co., Ltd
Henan Weite
Heze Ever-Best International Trade Co., Ltd. (f/k/a Shandong Heze International Trade and Developing Company)
Hongqiao International Logistics Co
IT Logistics Qingdao Branch
Jinan Solar Summit International Co., Ltd
Jinan Yipin Corporation Ltd
Jining Highton Trading Co., Ltd
Jining Trans-High Trading Co., Ltd
Jining Yongjia Trade Co., Ltd
Jinxian County Huaguang Food Import & Export Co., Ltd
Jinxiang Dacheng Food Co., Ltd
Jinxiang Dongyun Freezing Storage Co., Ltd. (a/k/a Jinxiang Eastward Shipping Import and Export Limited Company)
Jinxiang Hejia Co., Ltd
Jinxiang Jinma Fruits Vegetables Products Co., Ltd
Jinxiang Shanyang Freezing Storage Co., Ltd
Jinxiang Tianheng Trade Co., Ltd
Jinxiang Tianma Freezing Storage Co., Ltd
Juye Homestead Fruits and Vegetables Co., Ltd
Laizhou Xubin Fruits and Vegetables
Linyi City Heding District Jiuli Foodstuff Co
Ningjin Ruifeng Foodstuff Co., Ltd
Qingdao Lianghe International Trade Co., Ltd
Qingdao Saturn International Trade Co., Ltd
Qingdao Tiantaixing Foods Co., Ltd
Qingdao Winner Foods Co., Ltd
Qingdao Xintianfeng Foods Co., Ltd
Qingdao Yuankang International
Qufu Dongbao Import & Export Trade Co., Ltd
Samyoung America (Shanghai) Inc
Shandong Chengshun Farm Produce Trading Co., Ltd
Shandong Chenhe Int'l Trading Co., Ltd
Shandong Dongsheng Eastsun Foods Co., Ltd
Shandong Garlic Company
Shandong Jinxiang Zhengyang Import & Export Co., Ltd
Shandong Sanxing Food Co., Ltd
Shandong Xingda Foodstuffs Group Co., Ltd
Shandong Yipin Agro (Group) Co., Ltd
Shanghai Ever Rich Trade Company
Shanghai LJ International Trading Co., Ltd
Shenzhen Fanhui Import & Export Co., Ltd
Shenzhen Greening Trading Co., Ltd
Shenzhen Xinboda Industrial Co., Ltd
T&S International, LLC
Taian Eastsun Foods Co., Ltd
Taiyan Ziyang Food Co., Ltd
Weifang Chenglong Import & Export Co., Ltd
Weifang Hongqiao International Logistic Co., Ltd
Weifang Naike Foodstuffs Co., Ltd
Weifang Shennong Foodstuff Co., Ltd
WSSF Corporation (Weifang)
Xiamen Huamin Import Export Company
You Shi Li International Trading Co., Ltd
Zhangzhou Xiangcheng Rainbow Greenland Food Co., Ltd
Zhengzhou Harmoni Spice Co., Ltd
Zhengzhou Yuanli Trading Co., Ltd
¹ If one of the above-named companies does not qualify for a separate rate, all other exporters of certain hot-rolled carbon steel flat products from the People's Republic of China who have not qualified for a separate rate are deemed to be covered by this review as part of the single PRC entity of which the named exporters are a part.
² If one of the above-named companies does not qualify for a separate rate, all other exporters of certain cut-to-length carbon steel plate from the People's Republic of China who have not qualified for a separate rate are deemed to be covered by this review as part of the single PRC entity of which the named exporters are a part.
³ If one of the above-named companies does not qualify for a separate rate, all other exporters of Fresh Garlic from the People's Republic of China who have not qualified for a separate rate are deemed to be covered by this review as part of the single PRC entity of which the named exporters are a part.

Countervailing Duty Proceedings

None.

Suspension Agreements

None.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19U.S.C. 1675(a)), and 19 CFR 351.221(c)(1)(i).

Dated: December 18, 2008.
Stephen J. Claeys,
Deputy Assistant Secretary for Antidumping and Countervailing Duty Operations.

[FR Doc. E8-30682 Filed 12-23-08; 8:45 am]

BILLING CODE 3510-DS-P